DEPARTMENT OF ENERGY

Federal Energy Regulatory Commission

Sunshine Act Meeting

The following notice of meeting is published pursuant to section 3(a) of the government in the Sunshine Act (Pub. L. 94-409), 5 U.S.C. 552b:

AGENCY HOLDING MEETING: Federal Energy Regulatory Commission.

TIME AND DATE: March 18, 2021, 10:00 a.m.

PLACE: Open to the public via audio Webcast only. Join FERC online to listen live at http://ferc.capitolconnection.org/.

STATUS: Open.

MATTERS TO BE CONSIDERED: Agenda. * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1076th—Meeting
[Open meeting; March 18, 2021; 10:00 a.m.]
Item No. | Docket No. | Company
ADMINISTRATIVE
A-1 | AD21-1-000 | Agency Administrative Matters.
A-2 | AD21-2-000 | Customer Matters, Reliability, Security and Market Operations.
A-3 | AD06-3-000 | Market Update.
ELECTRIC
E-1 | RM18-9-002 | Participation of Distributed Energy Resource Aggregations in Markets Operated by Regional Transmission Organizations and Independent System Operators.
E-2 | RM21-14-000 | Participation of Aggregators of Retail Demand Response Customers in Markets Operated by Regional Transmission Organizations and Independent System Operators.
E-3 | QF17-454-006 | Broadview Solar, LLC.
E-4 | EL19-47-000 | Independent Market Monitor for PJM v. PJM Interconnection, L.L.C.
| EL19-63-000 | Office of the People's Counsel for the District of Columbia, Delaware Division of the Public Advocate, Citizens Utility Board, Indiana Office of Utility Consumer Counselor, Maryland Office of People's Counsel, Pennsylvania Office of Consumer Advocate, West Virginia Consumer Advocate Division, and PJM Industrial Customer Coalition v. PJM Interconnection, L.L.C.
E-5 | EL21-35-000 | Hollow Road Solar LLC.
E-6 | EL21-14-000 | NextEra Energy, Inc., Evergy, Inc., American Electric Power Company, Exelon Corporation, Xcel Energy Services Inc.
E-7 | RM16-17-000 | Data Collection for Analytics and Surveillance and Market-Based Rate Purposes.
E-8 | Omitted |
E-9 | ER21-679-000 | Midcontinent Independent System Operator, Inc.
E-10 | ER20-1210-001 | Hazleton Generation LLC.
E-11 | ER20-1237-000 | Ameren Illinois Company.
E-12 | ER19-1276-001 | Ameren Illinois Company.
E-13 | ER20-1892-000 | Midcontinent Independent System Operator, Inc.
E-14 | ER17-801-010 | Constellation Power Source Generation, LLC.
E-15 | ER18-2497-005 | Lawrenceburg Power, LLC.
E-16 | EC21-10-000 | NextEra Energy Transmission, LLC, GridLiance West LLC, GridLiance High Plains LLC, and GridLiance Hearthland LLC.
E-17 | RD21-2-000 | North American Electric Reliability Corporation.
E-18 | EL21-13-000 | Californians for Green Nuclear Power, Inc. v.The North American Electric Reliability Corporation, the Western Electricity Coordinating Council, the California Independent System Operator, the California Public Utilities Commission, the California State Water Resources Control Board, and the California State Lands Commission.
E-19 | EL20-69-000 | Californians for Renewable Energy and Michael E. Boyd v. California Independent System Operator Corporation, California Public Utilities Commission, Pacific Gas and Electric Company, San Diego Gas and Electric Company and Southern California Edison Company.
E-20 | EL21-33-000, QF86-381-001 | Citrus World, Inc.
E-21 | ER19-2547-001 | Pheasant Run Wind, LLC.
E-22 | ER18-2404-000 | Southwest Power Pool, Inc.
E-23 | ER19-477-000 | Southwest Power Pool, Inc.
E-24 | ER21-502-001 | New York Independent System Operator, Inc.
Gas
G-1 | Omitted |
G-2 | RP21-153-000 | Texas Eastern Transmission, LP.
HYDRO
H-1 | P-405-106 P-405-121 | Exelon Generation Company, LLC.
H-2 | P-12726-002 | Warm Springs Hydro LLC
Certificates
C-1 | RM20-18-000 | Waiver of the Water Quality Certification Requirements of Section 401(a)(1) of the Clean Water Act.
C-2 | CP20-466-000 | New Fortress Energy LLC.
C-3 | CP20-487-000 | Northern Natural Gas Company.
C-4 | CP17-40-000, CP17-40-001 | Spire STL Pipeline LLC.
C-5 | CP17-458-000, CP19-17-000 | Midship Pipeline Company, LLC.
C-6 | IN19-4-000 | Rover Pipeline, LLC and Energy Transfer Partners, L.P.

Issued: March 11, 2021.
Nathaniel J. Davis, Sr.,
Deputy Secretary.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2021-05492 Filed 3-12-21; 11:15 am]

BILLING CODE 6717-01-P